DEPARTMENT OF DEFENSE

Defense Finance and Accounting Service

Privacy Act of 1974; System of Records

AGENCY: Defense Finance and Accounting Service, DoD.

ACTION: Notice of an addition of a System of Records.

SUMMARY: The Defense Finance and Accounting Service proposes to add a system of records notice to its inventory of record systems subject to the Privacy Act of 1974, (5 U.S.C. 552a), as amended.

DATES: This action will be effective without further notice on May 30, 2000 unless comments are received that would result in a contrary determination.

ADDRESSES: Privacy Act Officer, Defense Finance and Accounting Service, 1931 Jefferson Davis Highway, ATTN: DFAS/PE, Arlington, VA 22240-5291.

FOR FURTHER INFORMATION CONTACT: Mrs. Pauline E. Korpanty at (703) 607-3743.

SUPPLEMENTARY INFORMATION: The complete inventory of Defense Finance and Accounting Service record system notices subject to the Privacy Act of 1974 (5 U.S.C. 552a), as amended, have been published in the Federal Register and are available from the address above.

The proposed systems reports, as required by 5 U.S.C. 552a(r) of the Privacy Act was submitted on April 14, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: April 24, 2000.
L.M. Bynum,
Alternate OSD Federal Register Liaison Officer, Department of Defense.

T1205

System name:

Junior Reserve Officer Training Corps Payment Reimbursement System.

System location:

Defense Finance and Accounting Service-Denver Center, 6760 East Irvington Place, Denver, CO 80279-3000.

Categories of individuals covered by the system:

All military retirees who participate in the Junior Reserve Officer Training Corps (JROTC) Instructor Program at selected high schools within the continental United States and various overseas locations.

Categories of records in the system:

Personal information regarding name, Social Security Number, school/school district name and address, applicable active duty entitlement amounts, and current gross retired pay amounts.

Military Services' applicable contribution percentage, gross and net contribution percentage, gross and net contribution amounts, and current employment period beginning and closing dates.

Authority for maintenance of the system:

10 U.S.C. 2031, Junior Reserve Officers' Training Corps, Reserve Officers' Training Corps Program for Secondary Educational Institutions; Title 32 CFR, Ch I, Part 111, Reserve Officers' Training Corps Program for Secondary Educations Institutions; DoD Instruction 1205.13, Junior Reserve Officers Training Corps Program; DoDFMR Volume 10, Chapter 21; Headquarters, Defense Finance and Accounting Service, Memorandum of April 10, 1996 (Department of the Navy, Headquarters, U.S. Marine Corps, Memorandum of April 26, 1996; Department of the Navy, Office of the Assistant Secretary, Memorandum of June 21, 1996; U.S. Army Cadet Command, Memorandum of June 13, 1996)

Purpose(s):

To accomplish payroll computations and the reimbursement portion of the Junior Reserve Officer Training Corps Instructor Program.

To provide statements and/or reports to each instructor and school/school district.

To answer inquiries from applicable Services and/or financial institution where funds were distributed.

To provide information required by an auditor during an audit of the program.

To assist the Services with audit of individual instructor, school, and/or school district.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

To the school/school district to provide information regarding the instructor's computed minimum instructor pay, and the amount being reimbursed by the applicable Military Service.

To the Treasury Department to provide information on check issues and electronic funds transfers.

To the Federal Reserve Banks to distribute payments made through the direct deposit system to financial organizations or their processing agents authorized by individuals to receive and deposit payments in their accounts.

The ‘Blanket Routine Uses’ published at the beginning of the DFAS compilation of systems of records notices also apply to this system.

Disclosure to consumer reporting agencies:

Disclosures pursuant to 5 U.S.C. 552a(b)(12) may be made from this system to ‘consumer reporting agencies’ as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number); the amount, status, and history of the claim; and the agency or program under which the claim arose.

Policies and practices for storing, retrieving, accessing, retaining, and disposition of records in the system:

Storage:

Data is recorded on magnetic disks by payroll month, computer printouts, computer output products, file folders, card files, and other documents.

Retrievability:

Information is retrieved by Instructor Name, Instructor Social Security Number, School Identification Code, School Name, District Identification Code, District Name, Retired Pay Grade, or by any combination of data elements within the database.

Safeguards:

As a minimum, records are accessed by person(s) responsible for servicing, and authorized to use, the record system in performance of their official duties and properly screened and cleared for the need to know. Additionally, at some Centers, records are stored in office buildings protected by guards and controlled through screening of personnel and registering of visitors.

Retention and disposal:

Magnetic and paper records are maintained for a period of up to 6 years and 3 months from current fiscal year. Disposition is to the Regional Records Service Facilities. Destruction is by tearing, shredding, pulping, macerating, or burning.

System manager(s) and address:

Deputy Director of Military Pay, Defense Finance and Accounting Service-Denver Center, 6760 East Irvington Place, Denver, CO 89279-3000.

Notification procedure:

Individuals seeking to determine whether information about themselves is contained in this system of records should address written inquiries to the appropriate Military Service office listed above, or Deputy Director of Military Pay, Defense Finance and Accounting Service-Denver Center, 6760 East Irvington Place, Denver, CO 80279-3000.

Individuals should furnish full name, Social Security Number, current address, and telephone number.

Record access procedures:

Instructors seeking access to information about themselves contained in this system of records should address written inquiries to the Record Manager or Privacy Act Office at Defense Finance and Accounting Service-Denver Center, 6760 East Irvington Place, Denver, CO 80279-3000 or the applicable Military Service office listed above.

Individuals should furnish full name, Social Security Number, current address, and telephone number.

Contesting record procedures:

The DFAS rules for accessing records, for contesting contents and appealing initial agency determinations are published in DFAS Regulation 5400.11-R; 32 CFR part 324; or may be obtained from the Privacy Act Officer at any DFAS Center.

Record source categories:

Individual instructors; school/school district offices; applicable Military Services; and the Defense Retiree and Annuitant System.

Exemptions claimed for the system:

None.

[FR Doc. 00-10572 Filed 4-27-00; 8:45 am]

BILLING CODE 5001-10-F